DEPARTMENT OF ENERGY

Federal Energy Regulatory Commission

[Project No. 14802-000]

Magnolia Water, LLC; Notice of Preliminary Permit Application Accepted for Filing and Soliciting Comments and Motions To Intervene

On September 23, 2016, Magnolia Water, LLC filed an application for a preliminary permit, pursuant to section 4(f) of the Federal Power Act (FPA), proposing to study the feasibility of the Magnolia Water Pumped Storage Hydroelectric Project (project) to be located on Long Creek and the Kiamichi River in Pushmataha County, Oklahoma. The sole purpose of a preliminary permit, if issued, is to grant the permit holder priority to file a license application during the permit term. A preliminary permit does not authorize the permit holder to perform any land-disturbing activities or otherwise enter upon lands or waters owned by others without the owners' express permission.

The proposed project would consist of the following: (1) A 1,970-foot-long, 360-foot-high earthen upper dam across Tombstone Creek; (2) a 100-foot-long, 3,400-foot-wide rock-lined upper emergency spillway connecting to the lower reservoir; (3) a 190-acre upper reservoir having a total storage capacity of 22,800 acre-feet; (4) an intake/outlet structure in the upper reservoir; (5) four 3,500-foot-long, 22-foot-diameter steel and reinforced concrete, tunneled penstocks extending to the powerhouse; (6) a 250-foot-long, 120-foot-wide powerhouse, containing four pump-turbine generating units, with a total generating capacity of 1,200 megawatts; (7) four 30-foot-long, 400-foot-wide tailrace pipes; (8) a 9,800-foot-long, 80-foot-high earthen lower dam; (9) a 375-acre lower reservoir having a total storage capacity of 22,500 acre-feet; (10) a 100-foot-long, 3,400-foot-wide rock-lined lower emergency spillway connecting to a creek flowing into the Kiamichi River; (11) a 200-foot-long, 5-foot-high concrete overflow diversion weir across the Kiamichi River to supply water to the project; (12) a 5-acre impoundment on the Kiamichi River with a storage capacity of 25 acre-feet; (13) a 200-foot-long, 200-foot-wide duplex pump station; (14) a 10,000-foot-long, 24-inch-diameter steel water supply pipe to the lower reservoir; (15) a 90-mile-long, 345 kilovolt transmission line; and (16) two new access roads; one 6,800-foot-long road to access the lower reservoir site, and one 11,500-foot-long road to access the upper reservoir site. Both roads would be constructed on private property to perform studies. The estimated annual generation of the project would be 3,400 gigawatt-hours.

Applicant Contact: Mr. Fred Brown, Magnolia Water, LLC, 4265 Kellway Circle, Addison, TX 75001; phone: (972) 239-0707.

FERC Contact: Navreet Deo; phone: (202) 502-6304.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE., Washington, DC 20426. The first page of any filing should include docket number P-14802-000.

More information about this project, including a copy of the application, can be viewed or printed on the “eLibrary” link of Commission's Web site at http://www.ferc.gov/docs-filing/elibrary.asp. Enter the docket number (P-14802) in the docket number field to access the document. For assistance, contact FERC Online Support.

Dated: April 5, 2017.
Kimberly D. Bose,
Secretary.

[FR Doc. 2017-07243 Filed 4-10-17; 8:45 am]

BILLING CODE 6717-01-P